DEPARTMENT OF AGRICULTURE

Submission for OMB Review; Notice of Request for Emergency Approval

May 13, 2021.

In compliance with the requirements of the Paperwork Reduction Act of 1995 (PRA), the Department of Agriculture (USDA) has submitted a request to the Office of Management and Budget (OMB) for a six-month emergency approval of the following information collection: ICR 0596-NEW, Grant or Agreement Award Face Sheet. The requested approval would enable the collection of this information and the implementation of this program while USDA completes the normal PRA approval process for ICR 0596-0217.

Forest Service

Title: Grant or Agreement Award Face Sheet.

OMB Control Number: 0596-NEW.

Summary of Collection: The 2018 Farm Bill expanded the ability for tribes to enter into agreements with the Forest Service to manage programs implementing the Tribal Forest Protection Act (“638 agreements,” pursuant to the Indian Self-Determination and Education Assistance Act (Pub. L. 93-638). The proposed information collection approves the use of a new form needed to execute these agreements. In conjunction with the Intertribal Timber Council, the Forest Service assessed the status of development of demonstration project agreements under this important new authority and anticipates the need to evaluate and execute numerous projects in the near future. It is critical that the agency be able to support these important economic development projects in a timely fashion.

If approved for emergency use, this form will be combined with 0596-0217 at the time of renewal (expiration date is 12/31/2021).

Levi S. Harrell,
Departmental Information Collection Clearance Officer.

[FR Doc. 2021-16988 Filed 8-9-21; 8:45 am]

BILLING CODE 3411-15-P